DEPARTMENT OF AGRICULTURE

Commodity Credit Corporation

Foreign Donation Program

AGENCY: Commodity Credit Corporation, USDA.

ACTION: Notice.

SUMMARY: Commodity Credit Corporation (CCC) will consider, on an expedited basis, proposals from Cooperating Sponsors to carry out activities under the Global Food for Education Initiative (GFFEI). CCC will conduct the CFFEI through section 416(b) of the Agricultural Act of 1949.

EFFECTIVE DATE: CCC must receive all proposals by 5 p.m. EST, September 15, 2000.

FOR FURTHER INFORMATION CONTACT: Contact Dee A. Linse, Office of the Deputy Administrator, U.S. Department of Agriculture, Foreign Agriculture Service, Stop 1031, 1400 Independence Ave., SW, Washington, DC 20250-1031 or telephone (202) 720-9847. Or contact Lorie Jacobs, Program Planning, Development and Evaluation Division, U.S. Department of Agriculture, Foreign Agricultural Service, Stop 1034, 1400 Independence Ave., SW, Washington, DC 20250-1034 or Telephone (202) 720-2637.

SUPPLEMENTARY INFORMATION: On July 23, 2000, President Clinton announced new initiatives to expand access to basic education and improve childhood development in poor countries. These initiatives included a $300 million U.S. Department of Agriculture international school feeding program to improve student enrollment, attendance, and performance in poor countries. The U.S. Department of Agriculture intends to use the authority of section 416(b) of the Agricultural Act of 1949 (section 416(b)) to provide surplus agricultural commodities in support of this endeavor. Under section 416(b), the Secretary of Agriculture donates surplus agricultural commodities from CCC inventory to the United Nations' World Food Program (WFP) or to Cooperating Sponsors to support their humanitarian and developmental projects overseas. These entities may distribute the donated commodities to needy people or sell some of the commodities within the recipient country to provide local currency resources for in-country expenses including, but not limited to, administrative, storage, transportation, and handling expenses as well as direct project costs. Also, CCC funds may be available to cover expenses related to implementing activities supported with commodities acquired under section 5(d) of the CCC Charter Act.

Regulations governing commodity donations under section 416(b) appear at 7 CFR part 1499. Generally, the regulations require the Cooperating Sponsors seeking a donation of agricultural commodities must submit a proposal that includes the information specified in the regulations. If the proposal is approved, CCC and the successful Cooperating Sponsor will enter into a grant agreement incorporating the proposal and setting forth mutual obligations of the parties.

CCC intends to commit section 416(b) resources totaling $300 million representing commodity costs, packaging, processing, transportation, and other allowable program costs to the first year of the GFFEI. The $300 million will be available to both the WFP and Cooperating Sponsors. CCC will give priority consideration under section 416(b) to proposals that seek to institute school feeding activities and encourages interested Cooperating Sponsors to submit such proposals for consideration under the expedited procedures described below. CCC will consider multi-year proposals subject to an annual review of commodity availability and program performance.

Currently, CCC requires a Cooperating Sponsor to submit all information specified in 7 CFR 1499.5 before CCC will consider its proposal. This process may involve considerable effort and expense on the part of Cooperating Sponsors to prepare a proposal and considerable time by CCC staff to review and analyze the submitted proposals. Therefore, CCC will institute a two-step process for consideration of activities under the GFFEI until the $300 million of section 416(b) resources is fully committed.

Under step one, interested Cooperating Sponsors may present an initial submission that only contains information intended to demonstrate the organizations' administrative capabilities. This would encompass the type of information required by 7 CFR 1499.5(a)(3) to be included in paragraph 5(c) of the Plan of Operation, i.e., organizational experience and resources available to implement and manage the type of program proposed (direct school feeding and/or monetization of commodities for school feeding programs), and staff experience and knowledge in implementing and managing school feeding programs. A comprehensive submission would include information on staff experience and knowledge in implementing and managing school feeding programs, demonstrate their ability to implement large scale programs, provide evidence of establishing successful relationships with indigenous groups and government representatives in country, and demonstrate their familiarity with laws and regulations in countries which affect food aid/development programs and organizations. If a Cooperating Sponsor is interested in monetization, evidence should be provided to demonstrate their ability to successfully implement sales and disbursements of proceeds. Additional statements might include a description of automated record-keeping or accounting systems in place within the organization, knowledge of standard accounting and financial reporting practices, and a statement covering the Cooperating Sponsor's experience in the closure of agreements and projects with USDA and other private and governmental funding sources.

If Cooperating Sponsors are interested in utilizing or collaborating with other entities in implementing a program, the Cooperating Sponsor should also submit the information required by the regulations to be included in paragraph (5)(e) and (f) of the Plan of Operation dealing with “recipient agencies” or other governmental and non-governmental entities that would be involved in the activities.

In addition to the above information, organizations may wish to provide one or two brief success stories (paragraph each).

CCC will then review this submission to decide which Cooperating Sponsors are most capable of successfully implementing school feeding activities. Under step two, CCC will invite those Cooperating Sponsors determined to have the capability to participate to provide a supplemental submission containing the remainder of the information required by 7 CFR 1499.5(a)(3) addressing specific proposed activities. The information should be submitted not later than September 29, 2000.

The supplemental submission for the GFFEI activity should contain information which supports the goal of establishing a pre-school or school feeding program to draw children into the school environment and improve access to basic education especially for females. Priority consideration will be given to countries that have a commitment to universal free education, but need assistance in the short-run, where pre-school or school feeding programs will promote significant improvements in nutrition, school enrollment and attendance levels, with existing food for education programs and where the likelihood of support from other donors is high.

Cooperating Sponsors should provide, to the extent possible, information on literacy rates for the target population, percentage of school age children attending schools (with special emphasis on school age girls attending school), public expenditure on primary education, whether the country currently operates a school feeding initiative (either through USAID, with assistance from the World Bank, or with internal resources), program impact on areas such as teacher training, community infrastructure (Parent-Teacher Associations (PTAs) and community groups), health and nutrition, and other potential donors.

Agreements with successful Cooperating sponsors will require special reporting for programs operated under the GFFEI. The Cooperating Sponsor will be required to report periodically the number of meals served, enrollment levels, and total attendance numbers, including female attendance levels. Such reports should include information on the establishment of infrastructure relevant to sustaining the feeding program such as establishment of PTAs and community groups.

CCC will not make a final decision on which proposals to accept until Cooperating Sponsors furnish all the required information. A Cooperating Sponsor should not take an invitation to complete the process as any indication of acceptance. CCC will not reimburse a Cooperating Sponsor for any proposal preparation costs. The above described procedure is intended to efficiently allocate a portion of the $300 million of section 416(b) resources set aside for the first year of the President's GFFEI. Cooperating Sponsors that do not participate in this expedited review procedure may still have projects (including school feeding activities) considered during the normal course of CCC's section 416(b) project review.

Signed at Washington, DC on August 30, 2000.
Timothy J. Galvin,
Administrator, Foreign Agricultural Service.

[FR Doc. 00-22784 Filed 9-5-00; 8:45 am]

BILLING CODE 3410-10-M